DEPARTMENT OF ENERGY

Federal Energy Regulatory Commission

[Project No. 15054-001, 15059-001, 15060-001]

Kinet, Inc.; Notice of Surrender of Preliminary Permit

Take notice that Kinet, Inc., permittee for the proposed Kentucky River Lock and Dams Nos. 5, 6, and 8, has requested that its preliminary permits be terminated. The permits were issued on June 9, 2021 ¹ and would have expired on May 31, 2025. The projects would have been located at the Kentucky River Authority's Lock and Dams Nos. 5, 6, and 8 on the Kentucky River in Anderson, Garrard, Jessamine, Woodford, Madison, and Mercer Counties, Kentucky.

¹ 175 FERC ¶ 62,151-153 (2021).

The preliminary permits for Project Nos. 15054, 15059, and 15060 will remain in effect until the close of business, thirty days from the date of this notice. But, if the Commission is closed on this day, then the permit remains in effect until the close of business on the next day in which the Commission is open.² New applications for this site may not be submitted until after the permit surrender is effective.

² 18 CFR 385.2007(a)(2) (2022).

Dated: June 13, 2023.
Kimberly D. Bose,
Secretary.

[FR Doc. 2023-13073 Filed 6-16-23; 8:45 am]

BILLING CODE 6717-01-P